CHEMICAL SAFETY AND HAZARD INVESTIGATION BOARD

Sunshine Act Meeting

TIME AND DATE: January 30, 2014, 6:30 p.m.-9:00 p.m. PST.

PLACE: Brodniak Auditorium, Anacortes High School; 1600 20th St. Anacortes, WA 98221.

STATUS: Open to the public.

MATTERS TO BE CONSIDERED: The Chemical Safety and Hazard Investigation Board (CSB) will convene a public meeting on January 30, 2014, starting at 6:30 p.m. PST at the Brodniak Auditorium, Anacortes High School, 1600 20th St., Anacortes, WA 98221.

At the public meeting, the Board will consider and vote on the final investigation report into the April 2, 2010, explosion and fire that fatally injured seven employees. The CSB's investigation found that at the time of the incident a bank of heat exchangers was being brought online in the refinery's naphtha hydrotreater unit when another heat exchanger in a parallel bank catastrophically failed, spewing highly flammable hydrogen and naphtha which ignited. Seven Tesoro workers who were nearby, assisting with the heat exchanger startup, were fatally burned. The accident at Tesoro was the most deadly U.S. refinery incident since the 2005 explosion at BP Texas City that killed 15 workers and injured 180 others.

At the meeting, CSB staff will present to the Board the results of the investigation findings and safety recommendations.

Following the staff presentation on proposed findings and safety recommendations, the Board will hear comments from the public.

Following the conclusion of the public comment period, the Board will consider whether to approve the final report and recommendations. All staff presentations are preliminary and are intended solely to allow the Board to consider in a public forum the issues and factors involved in this case. No factual analyses, conclusions, or findings presented by staff should be considered final.

Only after the Board has considered the staff presentations, listened to public comments, and adopted a final investigation report and recommendations will there be an approved final record of the CSB investigation of this incident.

Additional Information

The meeting is free and open to the public. If you require a translator or interpreter, please notify the individual listed below as the “Contact Person for Further Information,” at least five business days prior to the meeting.

The CSB is an independent federal agency charged with investigating accidents and hazards that result, or may result, in the catastrophic release of extremely hazardous substances. The agency's Board Members are appointed by the President and confirmed by the Senate. CSB investigations look into all aspects of chemical accidents and hazards, including physical causes such as equipment failure as well as inadequacies in regulations, industry standards, and safety management systems.

Public Comment

Members of the public are invited to make brief statements to the Board at the conclusion of the staff presentation. The time provided for public statements will depend upon the number of people who wish to speak. Speakers should assume that their presentations will be limited to five minutes or less, and may submit written statements for the record.

Contact Person for Further Information

Hillary J. Cohen, Communications Manager, hillary.cohen@csb.gov or (202) 446-8094. General information about the CSB can be found on the agency Web site at: www.csb.gov.

Dated: December 23, 2013.
Rafael Moure-Eraso,
Chairperson.

[FR Doc. 2013-31111 Filed 12-24-13; 11:15 am]

BILLING CODE 6350-01-P